DEPARTMENT OF TRANSPORTATION

Federal Railroad Administration

Notice of Safety Advisory 2006-04, Notice No. 2

AGENCY: Federal Railroad Administration (FRA), Department of Transportation (DOT).

ACTION: Notice of Safety Advisory 2006-04 (Notice No. 2); Tank Cars with Stub Sills.

SUMMARY: On May 1, 2006, FRA issued Safety Advisory 2006-04 recommending that owners of tank cars equipped with the ACF Industries, Incorporated (ACF) 200 stub sill design, inspect and enhance the underframes of such tank cars in accordance with ACF's Maintenance Bulletin TC-200 (issued in 1994) and by installing the P470 angle application head brace. See 71 FR 26604 (May 5, 2006). The Safety Advisory indicated that owners should contact ACF for a copy of the Maintenance Bulletin and for clarification of procedures and any additional information. This Notice announces the availability of a revised Maintenance Bulletin and updates the contact information for obtaining a copy of the Bulletin.

FOR FURTHER INFORMATION CONTACT: Albert R. Taber or Thomas A. Phemister, Railroad Safety Specialists (Hazardous Materials), Hazardous Materials Division, Office of Safety Assurance and Compliance, Federal Railroad Administration, U.S. Department of Transportation, 1120 Vermont Avenue, NW., Washington, DC 20590-0001 (telephone: (202) 493-6254 or (202) 493-6050; e-mail: al.taber@dot.gov or tom.phemister@dot.gov).

SUPPLEMENTARY INFORMATION:

Background

As noted in Safety Advisory 2006-04 issued on May 1, 2006, since 1990, FRA, in conjunction with Transport Canada, has documented approximately eleven known defects on tank cars built with the ACF 200 stub sill design (ACF-200 tank cars). These defects included tank head cracks, pad to tank cracks, sill web cracks, and tank car buckling that in some instances led to hazardous materials incidents. In addition, the Association of American Railroads (AAR) Stub Sill (SS-3) inspection data related to ACF-200 tank cars shows significant percentages of longitudinal weld cracks located in the pad to sill area, and parent metal cracks in the pad. These cracks present a possible source of the loss of tank integrity which could lead to unintended releases of hazardous materials from ACF-200 tank cars.

As detailed in the Safety Advisory issued on May 1, 2006, FRA has learned that the safety concerns with the ACF-200 stub sill design are fatigue related which could be addressed through periodic inspection and modification of the tank cars at certain intervals determined by mileage and re-qualification inspection and maintenance dates. Specifically, FRA understands that the fatigue-related safety concerns with the ACF-200 stub sill design can be eliminated by modifying the underframe of the tank car in accordance with ACF's Maintenance Bulletin TC-200 (ACF Style 200 Stub Sill Underframe Enhancement, issued in May 1994) and installing the P470 angle application head brace (P470 Angle Application). Once such modifications are made to ACF-200 tank cars, the tank cars are transformed into what is known as the ACF-270 stub sill design. According to ACF, this program of retrofitting ACF-200 tank cars to the ACF-270 design, began nearly a decade ago and has progressed through the fleet, resulting in the majority of the affected cars having already been retrofitted to the ACF-270 design.

As also noted in Safety Advisory 2006-04, FRA is aware that most interested parties agree with ACF and FRA that a retrofit program is the best course of action. FRA agrees with ACF that the program established by the 1994 Maintenance Bulletin TC-200, augmented by the P470 Angle Application, is an effective method of addressing the fatigue-related safety concerns with ACF-200 tank cars. Accordingly, on May 1, 2006, FRA issued Safety Advisory 2006-04 recommending that owners of unmodified ACF-200 tank cars bring these cars into conformity with Maintenance Bulletin TC-200 and the P470 Angle Application at the earliest practicable date. See 71 FR 26604. Subsequent to publication of the Safety Advisory, FRA learned that ACF revised Maintenance Bulletin TC-200 on May 5, 2006. The revised Maintenance Bulletin, TC-200 Revision A, incorporates the P470 Angle Application. This Notice No. 2 to Safety Advisory 2006-04 announces the availability of the revised Maintenance Bulletin. In addition, this Notice provides updated contact information for obtaining a copy of the Maintenance Bulletin from ACF.

Recommended Action: FRA is reiterating below its original recommended actions published in Safety Advisory 2006-04, with two minor revisions. First, FRA is recommending that ACF-200 tank car owners obtain a copy of the revised version of ACF Maintenance Bulletin TC-200 (Revision A). Second, FRA has updated the contact information for obtaining the revised Bulletin from ACF.

1. ACF-200 tank car owners should enter into discussions with the car builder and decide the best course of action with regard to inspection of and modifications to tank cars built with the ACF-200 stub sill design and not yet retrofitted to the ACF-270 design. Copies of the ACF Maintenance Bulletin TC-200 Revision A are available to owners of tank cars built with the ACF-200 underframe from—Mr. Dave Maechling, Senior Manager Leasing Services, American Railcar Leasing, 620 North Second Street, St. Charles, MO 63301. (Dmaechling@arleasing.com).

2. ACF-200 tank car owners should modify ACF-200 tank cars to the ACF-270 design at the earliest of any of the following events:

• A tank car is due for re-qualification under 49 CFR 180.509;

• A tank car is recalled under an AAR Maintenance Advisory requiring modification in the draft sill area;

• A tank car has been in service for 150,000 miles; or

• A tank car requires general repairs and the repairs consume (or are expected to consume) at least 36 hours.

3. First priority in modifying unretrofitted ACF-200 tank cars to the ACF-270 design should go to cars in the general service fleet and, then, to the pressure car fleet.

As noted in the Safety Advisory issued on May 1, 2006, FRA policy is that the owner of the car's reporting marks is the owner of the car and primarily responsible for maintaining the car in a safe and compliant condition. However, for purposes of this Safety Advisory, FRA expects cooperation from the entity who controls the usage of the car in day to day operations, from the lessee/shipper, and from the title holder of the car. Although FRA does not see the need for further regulatory or enforcement action at this time, FRA will continue to monitor the status of ACF-200 tank cars in the hazardous materials industry and will take any necessary regulatory or enforcement action to ensure the highest level of safety on the nation's railroads.

Issued in Washington, DC, on October 2, 2006.
Jo Strang,
Associate Administrator for Safety.

[FR Doc. E6-16477 Filed 10-4-06; 8:45 am]

BILLING CODE 4910-06-P